FEDERAL COMMUNICATIONS COMMISSION

Notice of Public Information Collection(s) being Submitted to OMB for Review and Approval

March 4, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 10, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0065.

Title: Application for New or Modified Radio Station Authorization Under Part 5 of FCC Rules, Experimental Radio Service (Other than Broadband).

Form Number: FCC 442.

Type of Review: Extension of a currently approved collection.

Respondents: Business or other for-profit entities; Not-for-profit institutions; and State, local, or tribal governments.

Number of Respondents: 700.

Estimated Time Per Response: 4 hrs.

Frequency of Response: Recordkeeping; On occasion reporting requirement.

Total Annual Burden: 2,800 hrs.

Total Annual Costs: None.

Needs and Uses: Applicants must file FCC Form 442 under 47 CFR Sections 5.55(a), (b), and (c) of FCC Rules to obtain a license to operate a new or modified experimental radio station. The Commission uses the data obtained from Form 442 to if the applicant is eligible for an experimental license; the purpose of the experiment; compliance with the requirements of 5 CFR part 5 of FCC Rules; and if the proposed operation will cause interference to existing operations.

OMB Control Number: 3060-0149.

Title: Application and Supplemental Information Requirements—Part 63, Section 214, Sections 63.01-63.601.

Form Number: N/A.

Type of Review: Revision of a currently approved collection.

Respondents: Business or other for-profit entities.

Number of Respondents: 255.

Estimated Time Per Response: 10 hrs. (avg.).

Frequency of Response: Recordkeeping; On occasion reporting requirements; Third party disclosure.

Total Annual Burden: 2,550 hrs.

Total Annual Costs: None.

Needs and Uses: Section 214 of the Communications Act of 1934, as amended, requires that the FCC review the establishment, lease, operations, and extension of channels of communications by interstate common carriers. 47 CFR part 63 implements section 214. part 63 also implements provisions of the Cable Communications Policy Act of 1984 pertaining to video programming by telephone common carriers. The Commission uses the information it receives in applications from dominant carriers to determine if the facilities are needed. The information received from non-dominant carriers is used to monitor the growth of the networks and the availability of common carrier services.

OMB Control Number: 3060-0484.

Title: Amendment of part 63 of the Commission's Rules to Provide for Notification of Common Carriers of Service Disruptions, section 63.100.

Form Number: N/A.

Type of Review: Extension of a currently approved collection.

Respondents: Businesses or other for-profit entities.

Number of Respondents: 52.

Estimated Time Per Response: 5 hrs.

Frequency of Response: On occasion reporting requirements.

Total Annual Burden: 1,040 hrs.

Total Annual Costs: None.

Needs and Uses: 47 CFR 63.100 of the FCC Rules requires local exchange or interexchange common carriers that operate transmission or switching facilities and provide access service or interstate or international communications services that experience outages on any facilities that they own or operate to notify the FCC if the service outage continues for 30 or more minutes. Carriers must file an initial and final service outage report. The FCC uses these reports to monitor developments affecting telecommunications reliability; to serve as a source of public information; to encourage and, where appropriate, to assist in dissemination of information to those affected; and to take immediate steps, as needed, and after analyzing the information, to determine what, if any, additional action is required.

OMB Control Number: 3060-0856

Title: Universal Service—Schools and Libraries Universal Service Program Reimbursement Forms.

Form Number: FCC 472, 473, and 474.

Type of Review: Extension of a currently approved collection.

Respondents: Businesses or other for-profit entities; and Not-for-profit institutions.

Number of Respondents: 61,800.

Estimated Time Per Response: 1.0 to 1.5 hrs.

Frequency of Response: On occasion reporting requirements; Third party disclosure.

Total Annual Burden: 88,050 hrs.

Total Annual Costs: None.

Needs and Uses: The Telecommunications Act of 1996 contemplates that discounts on eligible services shall be provided to schools and libraries, and that service providers shall seek reimbursement for the amount of the discounts. Service providers/vendors that participate in the universal service support are assigned a service provider identification number (SPIN). The fund administrator uses FCC Form 472, Billed Entity Applicant Reimbursement Form, to pay universal service support to service providers who give discounted services to eligible schools, libraries, and consortia of those entities. Service provider/vendors use FCC Form 473, Service Provider Annual Certification Form, to confirm that they are in compliance with the FCC's rules governing the schools and libraries universal service support mechanism. In addition, service providers/vendors use FCC Form 474, Service Provider Invoice Form, to seek reimbursement for the cost of discounts that they give to eligible entities for eligible services.

OMB Control Number: 3060-0995.

Title: Amendment of Part 1 of the Commission's Rules—Competitive Bidding Procedures, 47 CFR Section 1.2105(c)(1) of the Commission's Rules (Anti-Collusion).

Form Number: N/A.

Type of Review: Extension of a currently approved collection.

Respondents: Business or other for-profit entities; Individuals or households; Not-for-profit institutions; and State, local, or tribal governments.

Number of Respondents: 10.

Estimated Time Per Response: 5 hours.

Frequency of Response: On occasion reporting requirements.

Total Annual Burden: 50 hours.

Total Annual Costs: None.

Needs and Uses: The information requirement will enable the FCC to ensure that no bidder gains an unfair advantage over other bidders in its spectrum auctions, and thus enhance the competitiveness and fairness of its auctions. The Commission will review the information collected will review and, if warranted, refer it to the Commission's Enforcement Bureau for possible investigation and administrative action. The Commission may also refer allegations of anticompetitive auction conduct to the Department of Justice for investigation.

Federal Communication Commission.
William F. Caton,
Acting Secretary.

[FR Doc. 02-5784 Filed 3-8-02; 8:45 am]

BILLING CODE 6712-01-P